DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 29, 2014.

FOR FURTHER INFORMATION CONTACT: Ms. Caryl Grant, National Public Liaison, CL:NPL:SRM, Rm. 7559, 1111 Constitution Avenue NW., Washington, DC 20224. Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, October 29, 2014 from 9:00 a.m. to 12:00 p.m. at Residence Inn Marriott, 1199 Vermont Avenue NW., Washington, DC 20005. Report recommendations on issues that may be discussed include: Foreign Account Tax Compliance Act; Expand Use of TIN Matching; Cost Basis Reporting; De minimis Threshold for Form 1099 Corrections; Business master file and Form 8822-B; 1099-MISC—Miscellaneous Income; Form W-9 Revision; Nonresident Alien Withholding and Reporting of Payments for Truck or Rail; Instructions for Form 2848; Form 8889—Health Savings Account; Third Party Sick Pay Reporting; Proper Reporting of FSA Overpayments; ACA and HRA-Like Plans; ACA Education Using Plain Language; Withholding and Reporting for Pension Payments to NRAs; Reporting by Insurance Companies and Third Parties under IRC §§ 6055 and 6056; IRC § 6050W and Form 1099-K; Form 1098-T; Form 8300; Coordination of Taxpayer Forms with Broker Forms; and Rev. Procedure 95-48. Last minute agenda changes may preclude advance notice. Due to limited seating and security requirements, please call or email Caryl Grant to confirm your attendance. Ms. Grant can be reached at 202-317-6851 or PublicLiaison@irs.gov. Should you wish the IRPAC to consider a written statement, please call 202-317-6851, or write to: Internal Revenue Service, Office of National Public Liaison, CL:NPL:SRM, Room 7559, 1111 Constitution Avenue NW., Washington, DC 20224 or email: PublicLiaison@irs.gov.

Dated: October 6, 2014.
John Lipold,
Designated Federal Official, Branch Chief, National Public Liaison.

[FR Doc. 2014-24173 Filed 10-9-14; 8:45 am]

BILLING CODE 4830-01-P